DEPARTMENT OF JUSTICE

Notice of Lodging Proposed Consent Decree

In accordance with Departmental Policy, 28 CFR § 50.7, notice is hereby given that a proposed Consent Decree in United States v. DMH Partners North, LLC, et al., Civil Action No. 12-cv-3203 (RHK/LIB), was lodged with the United States District Court for the District of Minnesota on January 2, 2013.

This proposed Consent Decree concerns a complaint filed by the United States against DMH Partners North, LLC, Patrick T. Christiansen, Michael J. Christiansen, and Donald Huber, pursuant to sections 301 and 404 of the Clean Water Act, 33 U.S.C. 1311 and 1344, to obtain injunctive relief and impose civil penalties against the Defendants for violating the Clean Water Act by discharging pollutants into waters of the United States without complying with the terms and conditions of a permit issued under section 404 of the Clean Water Act, 33 U.S.C. 1344, and for failing to comply with a compliance order regarding the permit violations. The proposed Consent Decree resolves these allegations by requiring Defendant DMH Partners North, LLC to perform mitigation and pay a civil penalty.

The Department of Justice will accept written comments relating to this proposed Consent Decree for thirty (30) days from the date of publication of this Notice. Please address comments to Assistant United States Attorney Ann M. Bildtsen, United States Attorney's Office, 600 United States Courthouse, 300 South Fourth Street, Minneapolis, MN 55415 and refer to United States v. DMH Partners North, LLC, et al., DJ #90-5-1-1-1904.

The proposed Consent Decree may be examined at the Clerk's Office, United States District Court for the District of Minnesota, 300 South Fourth Street, Minneapolis, MN 55415. In addition, the proposed Consent Decree may be examined electronically at http://www.justice.gov/enrd/Consent_Decrees.html.

Cherie L. Rogers,
Assistant Section Chief, Environmental Defense Section, Environment and Natural Resources Division.

[FR Doc. 2013-00284 Filed 1-9-13; 8:45 am]

BILLING CODE P